DEPARTMENT OF THE INTERIOR

National Park Service

[NPS-WASO-NAGPRA-NPS0027262; PPWOCRADN0-PCU00RP14.R50000]

Notice of Inventory Completion: Arizona State Museum, University of Arizona, Tucson, AZ

AGENCY: National Park Service, Interior.

ACTION: Notice.

SUMMARY: The Arizona State Museum, University of Arizona (ASM) has completed an inventory of human remains and associated funerary objects, in consultation with the appropriate Indian tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the ASM. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the ASM at the address in this notice by April 1, 2019.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3003, of the completion of an inventory of human remains and associated funerary objects under the control of the Arizona State Museum, University of Arizona, Tucson, AZ. The human remains and associated funerary objects were removed from Pima County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the ASM professional staff in consultation with representatives of the Ak-Chin Indian Community (previously listed as the Ak Chin Indian Community of the Maricopa (Ak Chin) Indian Reservation, Arizona); Cocopah Tribe of Arizona; Gila River Indian Community of the Gila River Indian Reservation, Arizona; Hopi Tribe of Arizona; Pascua Yaqui Tribe of Arizona; Quechan Tribe of the Fort Yuma Indian Reservation, California & Arizona; Salt River Pima-Maricopa Indian Community of the Salt River Reservation, Arizona; Tohono O'odham Nation of Arizona; and the Zuni Tribe of the Zuni Reservation, New Mexico (hereafter referred to as “The Consulted Tribes”).

History and Description of the Remains

In 1964, human remains representing, at minimum, one individual were removed from AZ Y:2:12(ASM), located in Yuma County, AZ, during the Lower Gila Survey Project. These human remains were not identified as such when they were collected. Collections from this site were received by ASM during or after 1964, but were not assigned an accession number. In 2010, museum staff discovered these human remains in the site survey collections. No known individuals were identified. The one associated funerary object is a shell fragment. This site includes a cremation area containing burned bones that had been eroding out of dunes. Information shared during consultations suggests that the placement of shells with a burial is consistent with Yuman mortuary practices in this region.

In 1964, human remains representing, at minimum, two individuals were removed from AZ Y:3:15(ASM), located on the east bank of Big Ethel Wash at its confluence with the Gila River in Yuma County, AZ, during the Lower Gila Survey Project. The 72 associated funerary objects are 67 ceramic sherds, one cobble, one glass fragment, one metal artifact, one metate, and one stone. This site is described as a historic Yuman site consisting of a refuse area and two cremation pits.

Archeological studies suggest that Yuman groups have resided along the Lower Colorado River and the Lower Gila River in Southern Arizona for at least 1,000 years. The presence of groups in these areas is documented historically by Spanish explorers who, in the 1600s and 1700s, encountered people living in widely scattered rancherias around the Lower Colorado River and the Lower Gila River. Several lines of archeological evidence, such as similarities in material culture, settlement patterns, ceremonial sites and practices, residential architecture, and subsistence patterns suggest that the Yuman cultural traditions arose from an earlier, archeological tradition typically referred to as Patayan. Evidence of early Patayan occupation in the Lower Colorado River is poorly preserved largely due to the inundation of large areas by the Lake Mohave and Lake Havasu reservoirs, and the intensive agricultural practices of surrounding valleys. However, permanent settlements dating to around 1500 are documented in the Mohave Valley, as well as contemporaneous geoglyphs and trail networks linking ceremonial, occupational, and resource exploitation areas. In the Lower Gila River area, evidence of Patayan occupation prior to the introduction of ceramics is poorly documented due to the ephemeral nature of such early sites. However, following the introduction of ceramics around A.D. 700, settlements in the area became more permanent. Archeological evidence for these more permanent settlements include sites with pit houses and roasting or fire pits, and artifact assemblages containing similar ceramic sherds, chipped stone, and ground stone.

Although there is evidence of some co-residence between Patayan and Hohokam groups, especially in the vicinity of Gila Bend, Patayan groups shared distinct cultural practices. These practices include settlement and subsistence patterns characterized by semi-permanent or permanent farming rancherias scattered across the floodplain of the Lower Gila River and the Lower Colorado River that are typically comprised of two to seven pit houses. Produce from these farms was augmented by seasonal gathering of resources from temporary camps along the river tributaries, as well as adjacent deserts and mountains. Large ceremonial sites served as gathering places for multiple families, and are characterized by shrines, petroglyphs, earth figures, intaglios, dance pathways, and rock alignments located on desert terraces adjacent to the floodplains. All Patayan groups and their descendants practiced cremation. Given the relative lack of archeological evidence on Patayan groups, archeologists have had difficulty establishing a relationship between prehispanic Patayan groups and specific historic Yuman tribes. However, archeologists have found the Patayan to be culturally affiliated with the Fort Mojave Tribe, Colorado River Indian Tribes, Cocopah Tribe, and the Fort Yuma-Quechan Tribe.

Modern Yuman groups in Southern Arizona, including the Fort Mojave Tribe, Colorado River Indian Tribes, Cocopah Tribe, and the Fort-Yuma Quechan Tribe, share oral traditions which trace their origins to the time of creation at Spirit Mountain (Avikwaame). According to this oral tradition, the Creator led the seven original Yuman groups to their various ancestral homelands, naming certain geographical markers along the way. Cultural informants cited place names from their oral traditions—including settlements, geographic features, and significant locations—that correlate to geographical areas of occupation defined by archeological material culture. These oral traditions suggest cultural continuity between modern Yuman groups and the earlier archeological Patayan culture.

Determinations Made by the Arizona State Museum

Officials of Arizona State Museum have determined that:

• Pursuant to 25 U.S.C. 3001(9), the human remains described in this notice represent the physical remains of three individuals of Native American ancestry.

• Pursuant to 25 U.S.C. 3001(3)(A), the 73 objects described in this notice are reasonably believed to have been placed with or near individual human remains at the time of death or later as part of the death rite or ceremony.

• Pursuant to 25 U.S.C. 3001(2), there is a relationship of shared group identity that can be reasonably traced between the Native American human remains and associated funerary objects and the Cocopah Tribe of Arizona; Colorado River Indian Tribes of the Colorado River Indian Reservation, Arizona and California; Fort Mojave Indian Tribe of Arizona, California & Nevada; and the Quechan Tribe of the Fort Yuma Indian Reservation, California & Arizona (hereafter referred to as “The Affiliated Tribes”).

Additional Requestors and Disposition

Lineal descendants or representatives of any Indian Tribe or Native Hawaiian organization not identified in this notice that wish to request transfer of control of these human remains and associated funerary objects should submit a written request with information in support of the request to John McClelland, NAGPRA Coordinator, P.O. Box 210026, Arizona State Museum, University of Arizona, Tucson, AZ 85721, telephone (520) 626-2950, by April 1, 2019. After that date, if no additional requestors have come forward, transfer of control of the human remains and associated funerary objects to The Affiliated Tribes may proceed.

The Arizona State Museum is responsible for notifying The Consulted Tribes and The Affiliated Tribes that this notice has been published.

Dated: February 1, 2019.
Melanie O'Brien,
Manager, National NAGPRA Program.

[FR Doc. 2019-03578 Filed 2-28-19; 8:45 am]

BILLING CODE 4312-52-P